DEPARTMENT OF LABOR

Employment and Training Administration

[TA-W-82,244]

Philips Lighting, Including Workers Whose Wages Were Paid Under Philips Lightolier, Genlyte Group, and Genlyte Thomas Group LLC, and Including On-Site Leased Workers From Adecco, Wilmington, Massachusetts; Amended Certification Regarding Eligibility To Apply for Worker Adjustment Assistance

On December 27, 2012, the Department of Labor (Department) issued a certification regarding eligibility to apply for Trade Adjustment Assistance (TAA) applicable to workers and former workers of Philips Lighting, Philips Lightolier Division, including on-site leased workers from Adecco, Wilmington, Massachusetts. The workers are engaged in employment related to the production of fluorescent lighting fixtures.

Following the issuance of the certification, the Department received information that Philips Lighting workers separated from (or threatened with separation from) 45 Industrial Way, Wilmington, Massachusetts had (or have, as the case may be) wages paid under Philips Lighting, Philips Lightolier, GENLYTE Group, and Genlyte Thomas Group LLC and under two Federal Employer Identification Numbers (22-258-4333 and 22-360-0475).

Based on these findings, the Department is amending this certification to include workers of the subject firm whose wages were paid under the afore-mentioned names and FEIN.

The amended notice applicable to TA-W-82,244 is hereby issued as follows:

All workers of Philips Lighting, including workers whose wages were paid under Philips Lightolier, GENLYTE Group, and Genlyte Thomas Group LLC, and including on-site leased workers from Adecco, Wilmington, Massachusetts, who became totally or partially separated from employment on or after December 10, 2011, through December 27, 2014, and all workers in the group threatened with total or partial separation from employment on December 27, 2012 through December 27, 2014, are eligible to apply for adjustment assistance under Chapter 2 of Title II of the Trade Act of 1974, as amended.

Signed in Washington, DC, this 5th day of September, 2013.
Del Min Amy Chen,
Certifying Officer, Office of Trade Adjustment Assistance.

[FR Doc. 2013-24191 Filed 10-2-13; 8:45 am]

BILLING CODE 4510-FN-P